INTERNATIONAL TRADE COMMISSION

[Investigation Nos. 731-TA-1014, 1016, 1017 (Review)]

In the Matter of Polyvinyl Alcohol From China, Japan, and Korea; Notice of Commission Determination To Conduct a Portion of the Hearing in camera

AGENCY: U.S. International Trade Commission.

ACTION: Closure of a portion of a Commission hearing.

SUMMARY: Upon its own initiative, the Commission has determined to conduct a portion of its hearing in the above-captioned reviews scheduled for January 27, 2009, in camera. See Commission rules 207.24(d), 207.66(b), 201.13(m) and 201.36(b)(4) (19 CFR 207.24(d), 207.66(b), 201.13(m) and 201.36(b)(4)). The remainder of the hearing will be open to the public. The Commission has determined that the seven-day advance notice of the change to a meeting was not possible. See Commission rule 201.35(a), (c)(1) (19 CFR 201.35(a), (c)(1)).

FOR FURTHER INFORMATION CONTACT: Mary Jane Alves, Office of the General Counsel, United States International Trade Commission, 202-708-2969. Hearing-impaired individuals are advised that information on this matter may be obtained by contacting the Commission's TDD terminal on 202-205-3105.

SUPPLEMENTARY INFORMATION: In these reviews, there are only three domestic PVA producers, of which only two sell in the commercial market. There is only one producer of subject merchandise in Korea. Only one of several foreign producers in China and only one of four producers of subject merchandise in Japan submitted questionnaire responses in these reviews. In addition, there are only a limited number of importers of polyvinyl alcohol into the United States. Because much of the data in these reviews is confidential, the Commission believes that a closed session is justified by the need to discuss data that involve business proprietary information (BPI) concerning imports, individual foreign industries, the domestic industry, and prices. In making this decision, the Commission nevertheless reaffirms its belief that whenever possible its business should be conducted in public.

The hearing will include the usual public presentations by parties supporting continuation of the antidumping duty orders and those in support of revocation of these orders, with questions from the Commission. In addition, the hearing will include a ten minute in camera session for a confidential presentation by parties supporting revocation of the antidumping duty orders. This session will be followed by questions from the Commission relating to the BPI and a ten-minute in camera rebuttal presentation by parties supporting continuation of the orders, if needed. Following the in camera session, the Commission will reopen the hearing to the public for the public rebuttal/closing statements. During the in camera session, the room will be cleared of all persons except those who have been granted access to BPI under a Commission administrative protective order (APO) and are included on the Commission's APO service list in these reviews. See 19 CFR 201.35(b). The time for the parties' presentations and rebuttals in the in camera session will be taken from their respective overall time allotments for the hearing. All persons planning to attend the in camera portions of the hearing should be prepared to present proper identification.

Authority: The General Counsel has certified, pursuant to Commission Rule 201.39 (19 CFR 201.39) that a portion of the Commission's hearing in Polyvinyl Alcohol from China, Japan, and Korea, Invs. Nos. 731-TA-1014, 1016, and 1017 (Review), may be closed to the public to prevent the disclosure of BPI.

Issued: January 26, 2009.
By order of the Commission.
Marilyn R. Abbott,
Secretary to the Commission.

[FR Doc. E9-1920 Filed 1-28-09; 8:45 am]

BILLING CODE 7020-02-P